DEPARTMENT OF THE INTERIOR

Bureau of Land Management

[LLCA930000.L58740000.EU0000.LXSS018B0000; CACA 48002]

Notice of Realty Action: Direct Sale of Public Lands in Riverside County, CA

AGENCY: Bureau of Land Management, Interior.

ACTION: Notice of Realty Action.

SUMMARY: The Bureau of Land Management (BLM), Palm Springs—South Coast Field Office, proposes to sell a parcel of public land consisting of approximately 119.37 acres in Riverside County, California to the City of Palm Springs for the appraised fair market value of $2,102,000.

DATES: Comments regarding the proposed sale must be received by the BLM on or before May 3, 2010.

ADDRESSES: Written comments concerning the proposed sale should be sent to the Field Manager, Bureau of Land Management, Palm Springs—South Coast Field Office, 1201 Bird Center Drive, Palm Springs, California 92262.

FOR FURTHER INFORMATION CONTACT: Allison Shaffer, Realty Specialist, BLM, Palm Springs—South Coast Field Office, 1201 Bird Center Drive, Palm Springs, California 92262 or phone (760) 833-7100.

SUPPLEMENTARY INFORMATION: The following described public land is being proposed for direct sale to the City of Palm Springs in accordance with Sections 203 and 209 of the Federal Land Policy and Management Act (FLPMA) of 1976, as amended (43 U.S.C. 1713 and 1714), at not less than the appraised fair market value:

San Bernardino Meridian

T. 3 S., R. 4 E.,

Sec. 34, those remaining public lands in the N½ lying south of the Chino Wash Flood Control Levee.

The area described contains approximately 119.37 acres in Riverside County.

The appraised fair market value is $2,102,000. The public land is identified as suitable for disposal in the BLM's 1980 California Desert Conservation Area Plan, as amended, and is not needed for any other Federal purpose.

The BLM is proposing a direct sale because the City of Palm Springs wishes to secure the land for development of the western campus of the College of the Desert. Development of the western campus of the College of the Desert is an important public project and speculative bidding would jeopardize the timely completion and economic viability of the project. A competitive sale is therefore not appropriate and the public interest would be best served by a direct sale. The lands identified for sale are considered to have no known mineral value. The BLM proposes that conveyance of the Federal mineral interests would occur simultaneously with the sale of the land.

On March 19, 2010, the above described land will be segregated from appropriation under the public land laws, including the mining laws, except the sale provisions of FLPMA. Until completion of the sale or termination of the segregation, the BLM will no longer accept land use applications affecting the identified public lands, except applications for the amendment of previously filed right-of-way applications or existing authorizations to increase the term of the grants in accordance with 43 CFR 2807.15 and 2886.15. The segregation will terminate upon issuance of a patent, publication in the Federal Register of a termination of the segregation, or on March 19, 2012, whichever occurs first, unless extended by the BLM State Director in accordance with 43 CFR 2711.1-2(d) prior to the termination date. The land will not be sold until at least 60 days after the date of publication of this notice in the Federal Register. The City of Palm Springs will be required to pay a $50.00 nonrefundable filing fee for conveyance of the mineral interests. Any patent issued will contain the following terms, conditions, and reservations:

a. A reservation of a right-of-way to the United States for ditches and canals constructed by authority of the United States under the Act of August 30, 1890 (43 U.S.C 945);

b. A condition that the conveyance be subject to all valid existing rights of record;

c. A notice and indemnification statement under the Comprehensive Environmental Response, Compensation and Liability Act (42 U.S.C. 9620(W), indemnifying, and holding the United States harmless from any release of hazardous materials that may have occurred;

d. Additional terms and conditions that the authorized officer deems appropriate.

Detailed information concerning the proposed land sale, including the appraisal, planning and environmental documents, and a mineral report, are available for review at the location identified in ADDRESSES above.

Public comments regarding the proposed sale may be submitted in writing to the attention of the BLM Palm Springs—South Coast Field Manager (see ADDRESSES above) on or before May 3, 2010. Comments received in electronic form, such as e-mail or facsimile, will not be considered. Any adverse comments regarding the proposed sale will be reviewed by the BLM State Director or other authorized official of the Department, who may sustain, vacate, or modify this realty action in whole or in part. In the absence of timely filed objections, this realty action will become the final determination of the Department of the Interior. Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Tom Pogacnik,
Deputy State Director for Natural Resources.

[FR Doc. 2010-6053 Filed 3-18-10; 8:45 am]

BILLING CODE 4310-40-P